DEPARTMENT OF ENERGY

Federal Energy Regulatory Commission

[Docket No. OR10-9-000]

Enbridge Pipelines (North Dakota) LLC; Notice of Motion to Approve Modification of Approved Facilities Surcharge Settlement

March 1, 2010.

Take notice that on January 29, 2010, Enbridge Pipelines (North Dakota) LLC (Enbridge), with the support of twelve Shippers and a Connecting Pipeline, submitted a modification to the Offer of Settlement (Supplement) approved in Docket No. OR06-9-000 (The Looping Surcharge), 117 FERC ¶ 61,131 (2006).

Any person desiring to intervene and comment on this Supplement to the Settlement should submit an original and 14 copies of its comments and motion to intervene with the Federal Energy Regulatory Commission, 888 First Street, NE., Washington, DC 20426, no later than 5 p.m. Eastern time on March 5, 2010. Reply comments will be due no later than 5 p.m. Eastern time on March 12, 2010.

The Commission encourages electronic submission of comments and interventions in lieu of paper using the “eFiling” link at http://www.ferc.gov. The filings in this proceeding are accessible on-line at http://www.ferc.gov., using the “eLibrary” link and is available for review in the Commission's Public Reference Room in Washington, DC. There is an “eSubcription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. 2010-4994 Filed 3-9-10; 8:45 am]

BILLING CODE 6717-01-P